DEPARTMENT OF ENERGY

Federal Energy Regulatory Commission

[Docket No. PF15-14-000]

Texas LNG Brownsville, LLC; Notice of Intent To Prepare an Environmental Impact Statement for the Planned Texas LNG Project, Request for Comments on Environmental Issues, and Notice of Public Scoping Meeting

The staff of the Federal Energy Regulatory Commission (FERC or Commission) will prepare an environmental impact statement (EIS) examining the potential environmental effects of the Texas LNG Project (Project), planned by Texas LNG Brownsville LLC (Texas LNG). The Project involves the construction and operation of a liquefied natural gas (LNG) liquefaction and export terminal on the Brownsville Ship Channel located in Cameron County, Texas. The Project purpose is to liquefy domestically produced natural gas, store LNG, and deliver LNG to carriers for export overseas. The Commission will use the EIS in its decision-making process to determine whether to authorize the Project.

This notice announces the opening of the scoping process the Commission will use to gather input from the public and interested agencies about the Project. You can make a difference by providing us with your specific comments or concerns about the Project. Your comments should focus on the potential environmental effects, reasonable alternatives, and measures to avoid or lessen environmental impacts. Your input will help the Commission's staff determine what issues need to be evaluated in the EIS. To ensure that your comments are timely and properly recorded, please send your comments so that the Commission receives them in Washington, DC on or before August 24, 2015.

If you sent comments on this Project to the Commission before the opening of this docket on March 9, 2015, you will need to file those comments in Docket No. PF15-14-000 to ensure they are considered as part of this proceeding.

This notice is being sent to the Commission's current environmental mailing list for this Project. State and local government representatives should notify their constituents of this planned Project and encourage them to comment on their areas of concern. If you are a landowner receiving this notice, a Texas LNG representative may contact you about the acquisition of an easement to construct, operate, and maintain the planned facilities.

Public Participation

For your convenience, there are four methods you can use to submit your comments to the Commission. The Commission will provide equal consideration to all comments received, whether filed in written form or provided verbally. The Commission encourages electronic filing of comments and has expert staff available to assist you at (202) 502-8258 or efiling@ferc.gov. Please carefully follow these instructions so that your comments are properly recorded.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the project docket number (PF15-14-000) with your submission: Kimberly D. Bose, Secretary, Federal Energy Regulatory Commission, 888 First Street NE., Room 1A, Washington, DC 20426.

(4) In lieu of sending written or electronic comments, the Commission invites you to attend the public scoping meeting its staff will conduct in the Project area, scheduled as follows.

FERC Public Scoping Meeting; Tuesday, August 11, 2015, From 1:00 p.m. to 8:00 p.m.; Port Isabel Event & Cultural Center, 309 E. Railroad Ave., Port Isabel, TX 78578

You may attend at any time during the scoping meeting. There will not be a formal presentation presented by Commission staff, but you will be provided information about the FERC process. Commission staff will be available to take verbal comments.

For your convenience, we are combining the Port Isabel scoping meetings for the three Brownsville area LNG projects currently in our pre-filing process. Representatives of Texas LNG, as well as those of Annova LNG Common Infrastructure, LLC for its planned Annova LNG Brownsville Project (Docket No. PF15-15-000) and Rio Grande LNG, LLC for its planned Rio Grande LNG Export Project and Rio Bravo Pipeline Company, LLC for its planned Rio Bravo Pipeline Project (Docket No. PF15-20-000) will be present to answer questions about their respective planned projects.

You may comment on any one, two, or all three planned projects. Comments will be recorded by a stenographer and transcripts will be placed into the appropriate docket(s) for the project and made available for public viewing on FERC's eLibrary system (see page 8 “Additional Information” for instructions on using eLibrary). We believe it is important to note that verbal comments hold the same weight as written or electronically submitted comments. If a significant number of people are interested in providing verbal comments, a time limit of 3 to 5 minutes may be implemented for each commenter to ensure all those wishing to comment have the opportunity to do so within the designated meeting time. Time limits will be strictly enforced if they are implemented.

Please note this is not your only public input opportunity; please refer to the review process flow chart in appendix 1.¹

¹ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

Summary of the Planned Project

Texas LNG plans to site, construct, and operate a natural gas liquefaction and export terminal at the Port of Brownsville, on north side of the Brownsville Ship Channel located in Cameron County, Texas. The Project would have the capacity to produce 4.4 million tons of LNG each year for export.

Texas LNG's proposed terminal is composed of multiple LNG facility components at an approximately 625-acre site. The Project would include a liquefaction plant, two single containment storage tanks with a capacity of 210,000 cubic meters (m³) of LNG each, an LNG carrier berthing dock, and a materials offloading facility.

As currently planned, the Texas LNG Project site would consist of the following facilities:

• Natural Gas Pipeline Receiving Interface;

• Natural Gas Pretreatment Process;

• LNG Liquefaction Process;

• LNG Loading Marine Terminal;

• LNG Transfer Lines;

• LNG Storage Tanks;

• Vapor Handling System;

• Control Systems, and Safety Systems; and

• Utilities, Infrastructure, and Support Systems.

The general location of the planned facilities is shown in appendix 2.

Land Requirements for Construction

The planned Texas LNG Project would occupy an approximately 625-acre property secured via a lease option and subsequent amendment from the Brownsville Navigation District by Texas LNG. Of the approximately 625 acres, approximately 185 acres would support permanent operational facilities, approximately 75 acres would be temporarily disturbed during construction activities, and the remaining approximately 365 acres would be undisturbed. Of the approximately 185 acres supporting permanent operational facilities, approximately 46 acres would be converted to open water through excavation and dredging to create the LNG carrier berthing area. An additional approximately 19 acres of impacts located outside of the site boundaries would be associated with dredging of the turning basin within the Brownsville Ship Channel.

Non-Jurisdictional Facilities

The LNG facility would receive natural gas via a non-jurisdictional intrastate natural gas pipeline to be constructed from the Agua Dulce natural gas hub approximately 150 miles north of Brownsville to the Brownsville market. This pipeline would provide natural gas to the planned Project, industrial projects, power generation facilities, gas utility companies, and export markets in Mexico. Texas LNG does not plan to own or operate the proposed intrastate pipeline that will provide feed gas supply to the Texas LNG Project. Construction of the pipeline would likely require a construction right-of-way about 100 feet wide and additional temporary extra workspaces at features such as road and stream crossings.

The planned Project would also require the installation of a new non-jurisdictional electric transmission line. To provide power to the facility, American Electric Power would build a new approximately 10 mile long radial line to the Project site from the existing Union Carbide Substation located near the Port of Brownsville.

Although FERC has no regulatory authority to modify, approve, or deny the construction of the above-described facilities, we will disclose available information regarding the construction impacts in the cumulative impacts section of our EIS.

The EIS Process

The National Environmental Policy Act (NEPA) requires the Commission to take into account the environmental impacts that could result from an action whenever it considers the authorization of LNG facilities under Section 3a of the Natural Gas Act. NEPA also requires us ² to discover and address concerns the public may have about proposals. This process is referred to as scoping. The main goal of the scoping process is to focus the analysis in the EIS on the important environmental issues. By this notice, the Commission requests public comments on the scope of the issues to address in the EIS. We will consider all filed comments during the preparation of the EIS.

² “We,” “us,” and “our” refer to the environmental staff of the Commission's Office of Energy Projects.

In the EIS, we will discuss impacts that could occur as a result of the construction and operation of the planned Project under these general headings:

• Geology and soils;

• land use, recreation, and visual resources;

• water resources and wetlands;

• cultural resources;

• vegetation, fisheries, and wildlife;

• endangered and threatened species;

• socioeconomics;

• air quality and noise;

• public safety and reliability; and

• cumulative impacts.

We will also evaluate possible alternatives to the planned Project or portions of the Project, and make recommendations on how to lessen or avoid impacts on the various resource areas.

Although no formal application has been filed, we have already initiated our NEPA review under the Commission's pre-filing process. The purpose of the pre-filing process is to encourage early involvement of interested stakeholders and to identify and resolve issues before the FERC receives an application. As part of our pre-filing review, we have begun to contact some federal and state agencies to discuss their involvement in the scoping process and the preparation of the EIS.

The EIS will present our independent analysis of the issues. We will publish and distribute the draft EIS for public comment. After the comment period, we will consider all timely comments and revise the document, as necessary, before issuing a final EIS. To ensure we have the opportunity to consider and address your comments, please carefully follow the instructions in the Public Participation section beginning on page 2 of this notice.

With this notice, we are asking agencies with jurisdiction by law and/or special expertise with respect to environmental issues related to this Project to formally cooperate with staff in preparing the EIS.³ Agencies that would like to request cooperating agency status should follow the instructions for filing comments provided in the Public Participation section of this notice. Currently, the U.S. Department of Energy, U.S. Department of Transportation, U.S. Coast Guard, U.S. Fish and Wildlife Service, U.S. Environmental Protection Agency, and the U.S. Army Corps of Engineers have expressed their intention to participate as cooperating agencies in the preparation of the EIS.

³ The Council on Environmental Quality regulations addressing cooperating agency responsibilities are at Title 40, Code of Federal Regulations, Part 1501.6.

Consultations Under Section 106 of the National Historic Preservation Act

In accordance with the Advisory Council on Historic Preservation's implementing regulations for Section 106 of the National Historic Preservation Act, we are using this notice to initiate consultation with applicable State Historic Preservation Office (SHPO), and to solicit their views and those of other government agencies, interested Indian tribes, and the public on the Project's potential effects on historic properties.⁴ We will define the project-specific Area of Potential Effects (APE) in consultation with the SHPO as the Project develops. On natural gas facility projects, the APE at a minimum encompasses all areas subject to ground disturbance (examples include construction area, contractor storage yards, and access roads). Our EIS for this Project will document our findings on the impacts on historic properties and summarize the status of consultations under Section 106.

⁴ The Advisory Council on Historic Preservation regulations are at Title 36, Code of Federal Regulations, Part 800. Those regulations define historic properties as any prehistoric or historic district, site, building, structure, or object included in or eligible for inclusion in the National Register for Historic Places.

Currently Identified Environmental Issues

We have identified several issues based on a preliminary review of the planned facilities and the environmental information provided by Texas LNG that we think deserves attention. This preliminary list of issues may be changed based on your comments and our continued analysis. The issues identified to date include:

• Potential impacts on water quality;

• potential impact on fisheries and aquatic resources;

• potential impact on federally listed endangered and threatened species;

• visual effects on surrounding areas, including Port Isabel, Laguna Vista, and South Padre Island;

• potential impacts on tourism and recreational and commercial fisheries, including eco-tourism and the local shrimp fishery;

• potential for disproportionate impact on lower income communities;

• potential impacts on air quality, and associated impacts on human health and local agricultural areas;

• public safety and hazards associated with the transport of natural gas and LNG; and

• cumulative impacts from construction and operation of multiple LNG facilities within the Port of Brownsville, and from the Brownsville Ship Channel deepening project.

Environmental Mailing List

The environmental mailing list includes federal, state, and local government representatives and agencies; elected officials; environmental and public interest groups; Native American Tribes; other interested parties; and local libraries and newspapers. This list also includes affected landowners (as defined in the Commission's regulations) who are potential right-of-way grantors, whose property may be used temporarily for Project purposes, or who own homes within certain distances of aboveground facilities, and anyone who submits comments on the Project. Staff will update the environmental mailing list as the analysis proceeds to ensure that it sends the information related to this environmental review to all individuals, organizations, and government entities interested in and/or potentially affected by the planned Project.

Copies of the completed draft EIS will be sent to the environmental mailing list for public review and comment. If you would prefer to receive a paper copy of the document instead of the CD version or would like to remove your name from the mailing list, please return the attached Information Request (appendix 3).

Becoming an Intervenor

Once Texas LNG files its application with the Commission, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the “Document-less Intervention Guide” under the “e-filing” link on the Commission's Web site (http://www.ferc.gov/docs-filing/efiling/document-less-intervention.pdf). Motions to intervene are more fully described at http://www.ferc.gov/resources/guides/how-to/intervene.asp. Please note that the Commission will not accept requests for intervenor status at this time. You must wait until the Commission receives a formal application for the Project.

Additional Information

Additional information about the Project is available from the Commission's Office of External Affairs, at (866) 208-FERC, or on the FERC Web site (www.ferc.gov) using the eLibrary link. Click on the eLibrary link, click on “General Search” and enter the docket number, excluding the last three digits in the Docket Number field (i.e., PF15-14). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/esubscribenow.htm.

FERC public meetings or site visits will be posted on the Commission's calendar located at www.ferc.gov/EventCalendar/EventsList.aspx along with other related information.

Finally, Texas LNG has established a Web site at www.txlng.com with further information about its planned Project.

Dated: July 23, 2015.
Kimberly D. Bose,
Secretary.

[FR Doc. 2015-18682 Filed 7-29-15; 8:45 am]

BILLING CODE 6717-01-P